DEPARTMENT OF COMMERCE

National Oceanic and Atmospheric Administration

[I.D. 022207C]

Fisheries of the Caribbean, Gulf of Mexico, and South Atlantic; Amendment 30 to the Fishery Management Plan for the Reef Fish Resources of the Gulf of Mexico

AGENCY: National Marine Fisheries Service (NMFS), National Oceanic and Atmospheric Administration (NOAA), Commerce.

ACTION: Notice; intent to prepare a draft environmental impact statement (DEIS); scoping meetings; request for comments.

SUMMARY: NMFS, Southeast Region, in collaboration with the Gulf of Mexico Fishery Management Council (Council) intends to prepare a DEIS to describe and analyze management alternatives to be included in an amendment to the Fishery Management Plan (FMP) for the Reef Fish Resources of the Gulf of Mexico. These alternatives will consider measures to reduce gag, red grouper, greater amberjack, and gray triggerfish fishing mortality in the reef fish fishery, and to set status determination criteria for gag, greater amberjack, gray triggerfish, and other species in the fishery management unit. The purpose of this notice of intent is to solicit public comments on the scope of issues to be addressed in the DEIS.

DATES: Written comments on the scope of issues to be addressed in the DEIS must be received by NMFS by April 4, 2007. Seven scoping meetings will be held in March 2007. See SUPPLEMENTARY INFORMATION for specific dates and times.

ADDRESSES: Written comments on the scope of the DEIS, suggested alternatives and potential impacts, and requests for additional information on the amendment should be sent to Peter Hood, NMFS, Southeast Regional Office, 263 13th Avenue South, St. Petersburg, FL 33701-5511; telephone (727) 824-5305; fax (727) 824-5308. Comments may also be sent by email to peter.Hood@noaa.gov.

Requests for information packets and for sign language interpretation or other auxiliary aids should be directed to the Gulf of Mexico Fishery Management Council, 2203 North Lois Avenue, Suite 1100, Tampa, FL 33607; telephone: 813-348-1630; fax: 813-348-1711. Requests may also be sent by email to steven.atran@gulfcouncil.org.

FOR FURTHER INFORMATION CONTACT: Peter Hood; phone: (727) 824-5305; fax: (727) 824-5308; email: peter.hood@noaa.gov.

SUPPLEMENTARY INFORMATION: Recent stock assessments of three reef fish stocks and ongoing assessment of the red grouper stock indicate revisions may be needed in these stocks' management. Gag were declared to be undergoing overfishing in October 2006 based on the results of a stock assessment; thus it is necessary for NMFS in collaboration with the Council to set a total allowable catch (TAC) and management measures to end overfishing, and to set some management thresholds and targets to ensure compliance with the Sustainable Fisheries Act of 1996 (SFA).

Red grouper are under a rebuilding plan as a result of being overfished in 1997. In 2002, a stock assessment concluded that red grouper were still undergoing overfishing, though no longer in an overfished condition. A new stock assessment has been completed that re-evaluates the status of the red grouper stock and will be reviewed by NMFS and the Council soon.

Greater amberjack have been under a rebuilding plan since 2003. However, a new stock assessment completed in 2006 concluded the stock is not recovering as projected. It remains overfished and is undergoing overfishing. Therefore, management measures are needed to end overfishing and realign harvest with the rebuilding plan to continue stock recovery.

Gray triggerfish were declared to be undergoing overfishing in October 2006 based on the most recent stock assessment. The overfished status could not be determined due to uncertainty about the stock-recruitment relationship; however, stock biomass trends in the assessment suggested the stock could be approaching an overfished condition. In addition, NMFS and the Council will set management thresholds and targets for gray triggerfish to ensure compliance with the SFA, including setting TAC and management measures to end overfishing.

All reef fish species in the fishery management unit have overfishing definitions, which were developed in a generic amendment to the Council's FMPs. To ensure compliance with the SFA, NMFS and the Council will set optimum yield and overfished definitions where necessary for the remaining species in the management unit that do not have these definitions.

NMFS in collaboration with the Council will develop a DEIS to describe and analyze management alternatives to reduce overfishing and to establish SFA status criteria for these four stocks. Those alternatives include, but are not limited to: a “no action” alternative regarding each fishery; alternatives to set TAC consistent with each species' stock status and rebuilding plan (if required); constraint of harvest to each stocks' TAC through measures such as size limits, bag limits, gear restrictions, season closures, and area closures; and establishment of status determination criteria for gag and gray triggerfish.

In accordance with NOAA's Administrative Order 216-6, Section 5.02(c), Scoping Process, NMFS in collaboration with the Council has identified preliminary environmental issues as a means to initiate discussion for scoping purposes only. These preliminary issues may not represent the full range of issues that eventually will be evaluated in the EIS.

NMFS, in collaboration with the Council, has scheduled the following seven scoping meetings to provide the opportunity for additional public input:

1. Monday, March 19, 2007, Imperial Palace Hotel, 850 Bayview Avenue, Biloxi, MS 39530, phone: 228-432-3216;

2. Monday, March 19, 2007, City of Orange Beach Parks & Recreation, 27235 Canal Road, Orange Beach, AL 36561, phone: 251-981-6028;

3. Tuesday, March 20, 2007, Four Points Sheraton Hotel, New Orleans Airport, 6401 Veterans Memorial Boulevard, Metairie, LA 70003, phone: 504-885-5700;

4. Tuesday, March 20, 2007, Edgewater Beach Resort, 11212 Front Beach Road, Panama City, FL 32407, phone: 800-331-6338;

5. Wednesday, March 21, 2007, Hilton Galveston Island Resort, 5400 Seawall Boulevard, Galveston, TX 77550, phone: 409-744-1500;

6. Wednesday, March 21, 2007, Best Western Hotel, 6400 Dudley Drive, Naples, FL 34105, phone: 239-643-6655;

7. Thursday, March 22, 2007, City of Madeira Beach, 300 Municipal Drive, Madeira Beach, FL 33708, phone: 727-391-9951.

Copies of an information packet will be available at the meetings and are available prior to the meetings from the Council (see ADDRESSES).

All scoping meetings will begin at 7 p.m. The meetings will be physically accessible to people with disabilities. Requests for sign language interpretation or other auxiliary aids should be directed to the Council (see ADDRESSES).

Once the DEIS associated with Amendment 30 is completed, it will be filed with the Environmental Protection Agency (EPA). The EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

NMFS will consider public comments received on the DEIS in developing the final environmental impact statement (FEIS) and before adopting final management measures for the amendment. NMFS will submit both the final amendment and the supporting FEIS to the Secretary of Commerce (Secretary) for review as per the Magnuson-Stevens Fishery Conservation and Management Act.

NMFS will announce, through a notice published in the Federal Register, the availability of the final amendment for public review during the Department of Commerce Secretarial review period. During Secretarial review, NMFS will also file the FEIS with the EPA, and the EPA will publish a notice of availability for the FEIS in the Federal Register. This comment period will be concurrent with the Secretarial review period and will end prior to final agency action to approve, disapprove, or partially approve the amendment.

NMFS will announce, through a notice published in the Federal Register, all public comment periods on the final amendment, its proposed implementing regulations, and the availability of its associated FEIS. NMFS will consider all public comments received during the Secretarial review period, whether they are on the final amendment, the proposed regulations, or the FEIS, prior to final agency action.

Authority: 16 U.S.C. 1801 et seq.

Dated: February 27, 2007.
James P. Burgess,
Acting Director, Office of Sustainable Fisheries, National Marine Fisheries Service.

[FR Doc. E7-3777 Filed 3-2-07; 8:45 am]

BILLING CODE 3510-22-S